DEPARTMENT OF ENERGY

Federal Energy Regulatory Commission

[Docket No.: AD24-11-000]

Notice of Commissioner-Led Technical Conference; Large Loads Co-Located at Generating Facilities

Take notice that the Federal Energy Regulatory Commission (Commission) will convene a Commissioner-led technical conference in the above-referenced proceeding. The purpose of this technical conference is to discuss generic issues related to the co-location of large loads at generating facilities. The Commission does not intend to discuss at this technical conference any specific proceeding before the Commission.

The technical conference will be held in Fall 2024. The technical conference will be held in the Commission Meeting Room at Commission headquarters, 888 First Street NE, Washington, DC 20426.

The technical conference will be open to the public. Advance registration is not required, and there is no fee for attendance. A supplemental notice will be issued with the date and time of the technical conference, as well as further details regarding the agenda and any changes in logistics. Information will also be posted on the Calendar of Events on the Commission's website, www.ferc.gov, prior to the event.

The technical conference will be transcribed and webcast. Transcripts will be available for a fee from Ace Reporting (202-347-3700). A link to the webcast of this event will be available in the Commission Calendar of Events at www.ferc.gov. The Commission provides technical support for the free webcasts. Please call 202-502-8680 or email customer@ferc.gov if you have any questions.

Commission technical conferences are accessible under section 508 of the Rehabilitation Act of 1973. For accessibility accommodations, please send an email to accessibility@ferc.gov or call toll free 1-866-208-3372 (voice) or 202-208-8659 (TTY) or send a fax to 202-208-2106 with the required accommodations.

For more information about this technical conference, please contact Scotia Bennett at Scotiana.Bennett@ferc.gov or 202-502-6237. For legal information, please contact Helen Dyson at Helen.Dyson@ferc.gov or 202-502-8856.

Dated: August 2, 2024.
Debbie-Anne A. Reese,
Acting Secretary.

[FR Doc. 2024-17653 Filed 8-8-24; 8:45 am]

BILLING CODE 6717-01-P